DEPARTMENT OF COMMERCE

Census Bureau

Proposed Information Collection; Comment Request; Boundary and Annexation Survey, Boundary Validation Program

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before October 23, 2009.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument(s) and instructions should be directed to Laura Waggoner, U.S. Census Bureau, 4600 Silver Hill Road, Suitland, MD 20233 (or via the Internet at Laura.L.Waggoner@census.gov).

SUPPLEMENTARY INFORMATION:

I. Abstract

The U.S. Census Bureau requests a revision to the Paperwork Reduction Act clearance for the Boundary and Annexation Survey (BAS) in order to conduct the Boundary Validation Program (BVP). The BVP for the 2010 Decennial Census will be administered in parallel with the 2010 BAS. The intent of this program is to provide each highest elected or appointed official (HEO) an opportunity to review the Census Bureau's boundary information for the legal entities included in the BAS. The 2010 BVP will include all actively functioning counties or statistically equivalent entities, incorporated places (including consolidated cities), minor civil divisions (MCDs), all federally recognized American Indian reservations (AIRs) and off-reservation trust land entities in the United States, and municipios, barrios and subbarrios in Puerto Rico. In addition, the Census Bureau will send a letter to the governor of each state explaining the 2010 BVP process and advising them that state boundaries will be reviewed in conjunction with relevant counties boundaries as part of the BVP.

II. Method of Collection

The 2010 BVP will be conducted in two phases, initial and final. During the initial BVP phase, every HEO in the BAS universe will receive a BVP form, a letter with instructions, and a CD containing a complete set of 2010 BAS maps in .pdf format for their governmental unit. The HEO is asked to review the 2010 BAS maps on the CD and return the BVP form within ten days of receipt. If the HEO determines that there are no changes to report, the HEO will sign and return the validated BVP form. If the HEO determines that boundary changes are needed, the HEO will be instructed to return the unsigned BVP form and work with their local BAS contact to submit changes through the BAS process. If either the HEO or the BAS contact submits 2010 BAS updates by March 1, 2010, the entity will be included in the second and final phase of the BVP.

In the final BVP phase, once the timely 2010 BAS updates are applied to the MAF/TIGER Database (MTDB), each HEO is provided a complete set of updated paper maps. This is their final opportunity to review the boundary and verify that the BAS 2010 changes are reflected. In the final BVP phase, each HEO submits any remaining corrections directly to the Census Bureau using the instructions provided in the BAS respondent guide.

III. Data

OMB Control Number: 0607-0151.

Form Number: BVP-1; BVP-2.

Type of Review: Regular submission.

Affected Public: All actively functioning counties or statistically equivalent entities, incorporated places (including consolidated cities), minor civil divisions (MCDs), all federally recognized American Indian reservations (AIRs) and off-reservation trust land entities in the United States, and municipios, barrios and subbarrios in Puerto Rico.

Estimated Number of Respondents: 48,000.

Estimated Time per Response: 2 hours.

Estimated Total Annual Burden Hours: 96,000 hours.

Estimated Total Annual Cost: $2,075,520. The estimate is based on an hourly rate of $21.62 from “financial administration” payroll in the Annual Survey of State and Local Government Employment.

Respondent's Obligation: Voluntary.

Legal Authority: Title 13 U.S.C. Section 6.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 18, 2009.
Glenna Mickelson,
Management Analyst, Office of the Chief Information Officer.

[FR Doc. E9-20181 Filed 8-21-09; 8:45 am]

BILLING CODE 3510-07-P